SMALL BUSINESS ADMINISTRATION

National Women's Business Council; Notice of Public Meeting

AGENCY: Small Business Administration, National Women's Business Council.

ACTION: Notice of open public meeting.

DATES: The public meeting will be held on Thursday, June 6, 2024, from 12:00 p.m. to 2:00 p.m. EDT.

ADDRESSES: This meeting will be held via Zoom, a web conferencing platform. The access link will be provided to attendees upon registration.

FOR FURTHER INFORMATION CONTACT: For more information, please visit the NWBC website at www.nwbc.gov, email info@nwbc.gov or call Ariana Satina, NWBC's Program and Operations Manager, at (202) 322-9059.

The meeting is open to the public; however, advance notice of attendance is requested. To RSVP, please visit the NWBC website at www.nwbc.gov. The “Public Meetings” section under “Events” will feature a link to register on Eventbrite.

NWBC strongly encourages that public comments and questions be submitted in advance by May 30th. The Eventbrite registration page will include an opportunity to do so, but individuals may also email info@nwbc.gov with subject line—“[Name/Organization] Comment for 06/06/24 Public Meeting.” NWBC staff and/or a Council Member will respond to a selection of questions or statements with most relevance to the topic of women's business enterprise. Please note that public comments are typically shared during the final few minutes of the program.

This event will be held over Zoom. During the live event, attendees will be in listen-only mode. For technical assistance, please visit the Zoom Support Page. The meeting record, including a recording and a recap, will be made available on www.nwbc.gov under the “Public Meetings” section after the meeting has concluded.

SUPPLEMENTARY INFORMATION: Pursuant to section 10(a)(2) of the Federal Advisory Committee Act, the National Women's Business Council (NWBC) announces its second public meeting of Fiscal Year 2024. The 1988 Women's Business Ownership Act established NWBC to serve as an independent source of advice and policy recommendations to the President, Congress, and the Administrator of the U.S. Small Business Administration (SBA) on issues of importance to women entrepreneurs.

This meeting will allow the Council to hear from subject matter experts on issues related to women's entrepreneurship. It will also allow the three subcommittees to provide updates to the full Council.

Dated: May 14, 2024.
Andrienne Johnson,
Committee Management Officer.

[FR Doc. 2024-10974 Filed 5-17-24; 8:45 am]

BILLING CODE 8026-09-P